ENVIRONMENTAL PROTECTION AGENCY

40 CFR Part 271

[FRL-7817-9]

Connecticut: Final Authorization of State Hazardous Waste Management Program Revisions

AGENCY: Environmental Protection Agency (EPA).

ACTION: Final rule.

SUMMARY: Today's action finalizes EPA's decision to grant authorization to the State of Connecticut for certain revisions to its hazardous waste program under the Resource Conservation and Recovery Act (RCRA). The revisions consist of State regulations which update the State's program to meet Federal requirements through January 1, 2001. The revisions cover the EPA RCRA Clusters Non-HSWA VI, HSWA I, HSWA II, and RCRA I through XI, and include such important rules as Corrective Action, land disposal restrictions, toxicity characteristic amendments, burning hazardous waste in boilers and industrial furnaces, recycled used oil, universal wastes, and the expanded RCRA public participation rule. EPA is granting final authorization to Connecticut for these revisions to its hazardous waste program. EPA has determined that these State regulations meet the requirements for authorization as set forth in the RCRA statute and EPA's regulations.

DATES: The approval of Connecticut's program revisions are effective without further notice as of September 28, 2004.

ADDRESSES: Dockets which relate to today's final rule that contain copies of the State of Connecticut's revision application and the materials which support the basis for EPA's authorization decision are available at the following two locations: (i) Connecticut Department of Environmental Protection, Bureau of Waste Management, Waste Engineering and Enforcement Division, 79 Elm Street—4th floor, Hartford, CT 06106-5127, business hours Monday through Friday 9 a.m. to 4 p.m., tel: (860) 424-3023; and (ii) EPA Region I Library, One Congress Street—11th Floor, Boston, MA 02114-2023, business hours Monday through Thursday 10 a.m.-3 p.m., tel: (617) 918-1990. Records in these dockets are available for inspection and copying during normal business hours.

FOR FURTHER INFORMATION CONTACT: Robin Biscaia, Hazardous Waste Unit, EPA Region I, One Congress St., Suite 1100 (CHW), Boston, MA 02114-2023, tel: (617) 918-1642, e-mail: biscaia.robin@epa.gov.

SUPPLEMENTARY INFORMATION:

A. Why Are Revisions to State Programs Necessary?

States with final authorization under section 3006(b) of RCRA, 42 U.S.C. 6926(b), have a continuing obligation to maintain a hazardous waste program that is equivalent to, consistent with, and no less stringent than the Federal hazardous waste program. As the Federal hazardous waste program changes, the States must revise their programs and apply for authorization of the revisions. Revisions to State hazardous waste programs may be necessary when Federal or State statutory or regulatory authority is modified or when certain other changes occur. Most commonly, States must revise their programs because of changes to EPA's regulations in 40 Code of Federal Regulations (CFR) parts 124, 260 through 266, 268, 270, 273 and 279.

B. What Has Connecticut Previously Been Authorized for Under RCRA?

The State of Connecticut received Final Authorization on December 17, 1990, effective December 31, 1990 (55 FR 51707), to implement its base hazardous waste management program. This previously authorized program generally tracks Federal hazardous waste requirements through July 1, 1989.

C. What Were the Comments and Responses to EPA's Proposal?

EPA proposed to authorize the revisions to the Connecticut program at 69 FR 40568 (July 6, 2004). EPA received written comments from two commenters during the public comment period on EPA's proposed rule. Today's action responds to those comments and publishes EPA's final determination granting Connecticut final authorization for its program revisions. EPA would like to thank the commenters for their interest in this action. The issues raised by the commenters are summarized and responded to below. For the reasons explained below, EPA was not persuaded by the comments to reconsider the authorization of this Connecticut RCRA program update.

1. Comments From Klancko & Klancko of Woodbridge, Connecticut

This commenter submitted comments opposing EPA's proposed action. The commenter has concerns relating to the way the Connecticut Department of Environmental Protection (CTDEP) implements its hazardous waste program, as summarized below:

Comment #1: The commenter opposes the State spending resources to create its own regulations, but, rather, suggests the money would be better spent by the State adopting and enforcing the existing Federal hazardous waste regulations. The commenter suggests that having State requirements that differ from Federal ones may cause confusion among the regulated community.

EPA's Response: The Resource and Recovery Act (RCRA) mandates that in order for State hazardous waste programs to be authorized, they must be equivalent, consistent and no less stringent than the Federal program. There is nothing under this authority than prohibits a State from enacting laws or adopting regulations that are more stringent than the Federal hazardous waste program. Under State and Federal law, it is a State's prerogative to do so. This flexibility allows States to adapt programs to address specific needs or concerns in a given State which may result in more stringent requirements. The rules relating to this authorization have been subject to Connecticut's public notice and rulemaking procedures which gave fair notice regarding what the State regulations require. Raising State issues to EPA only after a State has adopted its rules at the State level is unfair to the State. This Federal authorization action is not the appropriate forum for this comment.

Comment #2: Relating to CTDEP's approach to compliance, the commenter believes there is more emphasis on using enforcement to achieve compliance rather than outreach and education which would foster improved, longer lasting compliance, particularly with small businesses. According to the commenter, this kind of approach promotes a polarized, disharmonious enforcement environment which adds to financial and operational burdens, and, thus, contributes to a declining manufacturing base in the State. Also, the commenter suggests the CTDEP is more concerned with the issuance of enforcement actions and levying fines than improvements in the environment, especially as it relates to those who are resource challenged, and that improvements in Connecticut's environment, according to data provided by the Connecticut Council on Environmental Quality, have been marginal at best.

EPA Response: Pursuant to the requirements for State authorized programs, i.e., 40 CFR 271.15 and 40 CFR 271.16, the CTDEP has the necessary compliance monitoring and enforcement components for an authorized State hazardous waste regulatory program. Also, as described in CTDEP's Program Description, its hazardous waste compliance program includes education and outreach regarding safe waste management and new and existing regulations as well as pollution prevention activities. As agreed to in the Memorandum of Agreement between EPA and the CTDEP, Connecticut must ensure that compliance monitoring activities and priorities shall be consistent with all applicable Federal requirements and with the State's Program Description and will be negotiated in the PPA (Performance Partnership Agreement) with EPA. The EPA disagrees with the commenter's criticisms of the Connecticut program. In addition, the current rulemaking involves authorizing an update to the Connecticut program. Not authorizing the update would in no way address the commenter's concerns, but would simply mean that for purposes of Federal enforcement, the Connecticut program would remain out of date.

Comment #3: In conclusion, the commenter urges EPA to reconsider the authorization of Connecticut's hazardous waste program at this time and suggests EPA meet with various stakeholders to determine a better approach to meet the “global” needs of Connecticut and EPA's mandate and responsibility, emphasizing that consistency with Federal regulation would be a major step in this direction.

EPA Response: See “EPA response” to comment #1 and #2 above. Also, Connecticut has established a Commissioner's Advisory Subcommittee, which includes consultants, attorneys, environmental interest groups, and members of the regulated community, to provide input during the development of the proposed revisions. In addition, as referenced in EPA's proposed rule for the Connecticut authorization, EPA and the CTDEP conducted an informational meeting on July 21, 2004, in order to address questions the public may have had relating to this action.

2. Comments From Safe Food and Fertilizer of Quincy, Washington

This organization filed a comment letter objecting to the proposed authorization of the updated Connecticut RCRA regulations for the following reasons.

Comment #1: The commenter states that there has not been an adequate review of the State regulations because the “Express RCRA Authorization Process” has been used by the State and EPA. The commenter states that 40 CFR 271.7 requires that there be a review by the State Attorney General's Office of each State regulation to determine if it is consistent with State statutes and that this was not done in this case.

EPA Response: Actually, each State regulation has been carefully reviewed in accordance with § 271.7. The Attorney General's Statement (page 1) submitted as part of the State's application for authorization certifies that the State has the statutory authority to “carry out the hazardous waste program set forth in the application.” This Statement was submitted following a review by that Office of all of the State regulations which determined (as reflected in the certification) that they all are consistent with the State statutes. In addition, the Attorney General's Statement is accompanied by a Statutory Checklist which lists the statutory authority on which the different kinds of State regulations are based. For example, under section XVII, item 1, the Checklist explains that the State Department of Environmental Protection (DEP) has the statutory authority pursuant to C.G.S. sections 22a-6(a) and 22a-449(c) to grant variances and exemptions that are no less stringent than allowed by the EPA in the Federal RCRA program. Finally, under C.G.S. section 4-169, no regulation can take effect in Connecticut until the regulation has been reviewed and approved by the Attorney General's Office. This State-law mandated review of the regulations also occurred in this case.

The only way in which this process has been “expedited” is that the EPA has not required that the State statutory authority be separately listed for each of the State regulations, but rather has accepted the determinations by the Attorney General that certain groups of regulations all are supported by the same statutory authority. For example, the EPA has not required the State to list C.G.S. sections 22a-6(a) and 22a-449(c) next to each exemption that is being adopted, but rather has allowed the Attorney General to certify that those provisions support all of the exemptions that are being adopted. This in no way has reduced the thoroughness with which the regulations have been reviewed by the State Attorney General (or by EPA), but rather has simply avoided duplication and saved paper.

Comment #2: The commenter also states that the updated State regulations (22a-449(c)-106) incorporate by reference Federal regulations (40 CFR 266.20) which allow “the use of hazardous waste as fertilizer,” and that this violates a State statute (22a-209f) which specifies that the DEP Commissioner may issue general permits covering the beneficial use of solid wastes but that such permits shall not apply to the reuse of hazardous wastes.

EPA Response: First, the EPA does not have regulations which allow “the use of hazardous waste as fertilizer.” Rather, the EPA regulations allow (subject to strict standards) the use of certain fertilizers which have been produced as a result of the recycling of hazardous wastes.

Second, the updated State regulations do not incorporate by reference the EPA regulation (40 CFR 266.20(d)(1)) allowing for the use of zinc fertilizers produced from hazardous wastes. This exemption was adopted by the EPA on July 24, 2002. The updated State regulations incorporate EPA requirements through January 1, 2001, and thus do not incorporate this exemption. Thus, there is no need for the EPA to address in this rulemaking whether the 40 CFR 266.20(d)(1) exemption would be consistent with Connecticut statutory requirements. The EPA suggests that the commenter raise any concerns it has about Connecticut adopting this rule only if and when Connecticut proposes in a State rulemaking to adopt the rule. Raising the issue now is premature, and raising State law issues to EPA only after a State has adopted the exemption at the State level would be unfair to the State.

The updated State regulations do continue to incorporate by reference the EPA regulations (in 40 CFR 266.20) which allow “use constituting disposal” of products made from hazardous wastes, if the hazardous wastes first have been treated to the point of meeting all applicable treatment standards in 40 CFR part 268. This includes allowing use of fertilizers made from hazardous wastes, if they have first been treated to the point of meeting those standards. However, this exemption was first adopted by the State in 1989 and authorized by the EPA in 1990. While the updated State regulations incorporate updated clarifying language, they make no substantive change. Thus whether or not Connecticut may allow products made from hazardous wastes to be utilized as fertilizers is not a part of the current rulemaking. It is far too late for the commenter to challenge the State's decision in 1989 to adopt the EPA regulations regarding “use constituting disposal.”

Although the issue is not part of this rulemaking, the EPA notes that it seems clear that the State does have the statutory authority to allow the use of recycled materials as fertilizer. In particular, C.G.S. section 22a-449(c) specifies that the DEP Commissioner may adopt “such regulations as he deems necessary to carry out the intent of * * * Subtitle C of the Resource Conservation and Recovery Act * * *” The regulations regarding “use constituting disposal” are a part of the Federal RCRA program, which the statute gives the DEP the power to implement. Moreover, C.G.S. 22a-209f does not prohibit the use of recycled materials. It simply specifies that general permits issued under the State's solid waste program may not be used to cover hazardous wastes. When adopting the “use constituting disposal” regulations, the DEP did not violate this provision since it did not issue any general permits. Indeed, it should be noted that under the use constituting disposal regulations, all applicable individual permit requirements continue to apply to the companies which recycle the hazardous wastes.

Comment 3: The commenter also objects to the State adopting the “Bevill exemption” and asserts that this exemption is not authorized by any State statute.

EPA Response: The “Bevill exemption” in 40 CFR 261.4(b)(7) was adopted by Connecticut in 1989 and the State regulations were authorized by the EPA in 1990. It is again too late for these decisions to be challenged. The EPA notes, however, that it seems clear that the State has the statutory authority to adopt this exemption under C.G.S. section 22a-449(c). The commenter notes that there are specific State statutes creating exemptions and approved disposal methods for wood wastes and waste sands from casting metals, but that no such similar statutes exist for Bevill wastes or for hazardous wastes recycled to make fertilizers. However, the absence of a statute that creates a specific exemption for Bevill wastes or for fertilizers does not mean that the DEP lacks the authority to adopt these Federal RCRA program provisions, since the DEP has been granted the general statutory authority to implement the Federal RCRA program.

In this program update, the State has adopted the provisions in 40 CFR 266.112 which restrict the use of the Bevill exemption. The commenter has not shown any reason why the EPA should not authorize this more environmentally protective provision. If the EPA was to deny authorization of this revision, this would simply mean that for purposes of Federal enforcement, the older less protective requirements would remain in place. The EPA is approving this revision because it tracks the current more protective Federal requirements relating to the Bevill exemption.

D. What Decisions Does the EPA Make in This Rule?

We believe that the State of Connecticut's application to revise its authorized program meets all of the statutory and regulatory requirements established by RCRA. Therefore, we grant Connecticut Final authorization to operate its hazardous waste program with the changes described in the authorization application.

E. What Changes Is the EPA Authorizing With Today's Action?

The EPA authorizes Connecticut regulations which update the State's hazardous waste program to meet Federal requirements through January 1, 2001. The revisions track the following Federal rules in RCRA Clusters Non-HSWA VI, HSWA I, HSWA II, and RCRA I through XI:

Non-HSWA VI

64 Delay of Closure Period for Hazardous Waste Management Facilities (54 FR 33376, 8/14/89)

65 Mining Waste Exclusion I (54 FR 36592, 9/1/89)

67 Testing and Monitoring Activities (54 FR 40260, 9/29/89)

70 Changes to Part 124 Not Accounted for by Present Checklists

(70) Environmental Permit Regulations; RCRA Hazardous Waste; SDWA Underground Injection Control; CWA National Pollutant Discharge Elimination System; CWA Section 404 Dredge or Fill Programs; and CAA Prevention of Significant Deterioration (48 FR 14146, 4/1/83)

(70) Hazardous Waste Management System; Permit Program; Requirements for Authorization of State Programs; Procedures for Decisionmaking; Identification and Listing of Hazardous Waste; Standards for Owners and Operators of Hazardous Waste Storage, Treatment, and Disposal Facilities; Interim Status Standards for Owners and Operators of Hazardous Waste Storage, Treatment, and Disposal Facilities; Correction (48 FR 30113, 6/30/83)

(70) Underground Injection Control Program; Hazardous Waste Disposal Injection Restrictions; Amendments to Technical Requirements for Class I Hazardous Waste Injection Wells; and Additional Monitoring Requirements Applicable to All Class I Wells (53 FR 28118, 7/26/88)

(70) Safe Drinking Water Act; National Drinking Water Regulations; Underground Injection Control Regulations; Indian Lands (53 FR 37396, 9/26/88)

(70) National Pollutant Discharge Elimination System Permit Regulations (54 FR 246, 1/4/89)

71 Mining Waste Exclusion II (55 FR 2322, 1/23/90)

72 Modifications of F019 Listing (55 FR 5340, 2/14/90)

73 Testing and Monitoring Activities; Technical Corrections (55 FR 8948, 3/9/90)

76 Criteria for Listing Toxic Wastes; Technical Amendment (55 FR 18726, 5/4/90)

78N Land Disposal Restrictions for Third Third Scheduled Wastes (55 FR 22520, 6/1/90)

HSWA I

CP Hazardous and Used Oil Fuel Criminal Penalties, (HSWA section 3006(h), section 3008(d) § 3014)

HSWA Date of Enactment Provisions, 11/8/84; (50 FR 28702, 7/15/85)

14 Dioxin Waste Listing and Management Standards (50 FR 1978, 1/14/85)

16 Paint Filter Test (See Revision Checklist 25 in HSWA Cluster I) (50 FR 18370, 4/30/85)

SI Sharing of Information With the Agency for Toxic Substances and Disease Registry (HSWA § 3019(b), 7/15/85)

17 HSWA Codification Rule (50 FR 28702, 7/15/85)

17E Location Standards for Salt Domes, Salt Beds, Underground Mines and Caves (50 FR 28702, 7/15/85)

17G Dust Suppression (50 FR 28702, 7/15/85)

17L Corrective Action (50 FR 28702, 7/15/85)

17N Permit Life (50 FR 28702, 7/15/85)

17O Omnibus Provision (50 FR 28702, 7/15/85)

18 Listing of TDI, TDA, DNT (50 FR 42936, 10/23/85)

20 Listing of Spent Solvents (50 FR 53315, 12/31/85)

21 Listing of EDB Waste (51 FR 5327, 2/13/86)

22 Listing of Four Spent Solvents (51 FR 6537, 2/25/86)

25 Codification Rule; Technical Correction (Paint Filter Test, 51 FR 19176, 5/28/86)

30 Biennial Report; Correction (51 FR 28556, 8/8/86)

31 Exports of Hazardous Waste (51 FR 28664, 8/8/86)

32 Standards for Generators; Waste Minimization Certifications (51 FR 35190, 10/1/86)

33 Listing of EBDC (51 FR 37725,10/24/86)

HSWA II

44 HSWA Codification Rule 2 (52 FR 45788, 12/1/87)

44A Permit Application Requirements Regarding Corrective Action

44B Corrective Action Beyond Facility Boundary

44C Corrective Action for Injection Wells

44D Permit Modification

44E Permit as a Shield Provision

44F Permit Conditions To Protect Human Health and the Environment

48 Farmer Exemptions; Technical Corrections (53 FR 27164, 7/19/88)

66 Land Disposal Restrictions; Correction to First Third Wastes (includes revision checklist 66.1 correction) (54 FR 36967, 9/6/89 as amended by 54 FR 9596, 3/7/89)

68 Reportable Quantity Adjustment Methyl Bromide Production Waste (54 FR 41402, 10/6/89)

69 Reportable Quantity Adjustment (F024 and F025) (54 FR 50968, 12/11/89)

74 Toxicity Characteristics Revision (includes revision checklist 74.1 correction) (55 FR 11798, 3/29/90 as amended by 55 FR 26986, 6/29/90)

75 Listing of 1,1-Dimethylhydrazine Production Wastes (55 FR 18496, 5/2/90)

78H Land Disposal Restrictions for Third Third Wastes (55 FR 22520, 6/1/90)

79 Organic Air Emission Standards for Process Vents and Equipment Leaks (55 FR 25454, 6/21/90)

RCRA I

80 Toxicity Characteristic; Hydrocarbon Recovery Operations (55 FR 40834, 10/5/90 as amended by 56 FR 3978, 2/01/91 and 56 FR 13406, 4/2/91)

81 Petroleum Refinery Primary and Secondary Oil/Water/Solids Separation Sludge Listings (F037 and F038) (55 FR 46354, 11/2/90 as amended by 55 FR 51707, 12/17/90)

82 Wood Preserving Listings (55 FR 50450, 12/6/90)

83 Land Disposal Restrictions for Third Third Scheduled Wastes; Technical Amendment (56 FR 3864, 1/31/91)

84 Toxicity Characteristic; Chlorofluoro-carbon Refrigerants (56 FR 5910, 2/13/91)

85 Burning of Hazardous Waste in Boilers and Industrial Furnaces (56 FR 7134, 2/21/91)

86 Removal of Strontium Sulfide From the List of Hazardous Waste; Technical Amendment (56 FR 7567, 2/25/91)

87 Organic Air Emission Standards for Process Vents and Equipment Leaks; Technical Amendment (56 FR 19290, 4/26/91)

88 Administrative Stay for K069 Listing (56 FR 19951, 5/1/91)

89 Revision to F037 and F038 Listings (56 FR 21955, 5/13/91)

90 Mining Exclusion III (56 FR 27300, 6/13/91)

91 Administrative Stay for F032, F034, and F035 Listings (Superseded by 57 FR 5859 and 57 FR 61492, see revision checklists 101 and 120 in RCRA Clusters II and III, respectively) (56 FR 27332, 6/13/91)

RCRA II

92 Wood Preserving Listings; Technical Corrections (56 FR 30192, 7/1/91)

94 Burning of Hazardous Waste in Boilers and Industrial Furnaces; Corrections and Technical Amendments I (56 FR 32688, 7/17/91)

95 Land Disposal Restrictions for Electric Arc Furnace Dust (K061) (56 FR 41164, 8/19/91)

96 Burning of Hazardous Waste in Boilers and Industrial Furnaces; Technical Amendments II (56 FR 42504, 8/27/91)

97 Exports of Hazardous Waste; Technical Correction (56 FR 43704, 9/4/91)

98 Coke Ovens Administrative Stay (56 FR 43874, 9/5/91)

99 Amendments to Interim Status Standards for Downgradient Ground-Water Monitoring Well Locations (56 FR 66365, 12/23/91)

100 Liners and Leak Detection Systems for Hazardous Waste Land Disposal Units (57 FR 3462, 1/29/92)

101 Administrative Stay for the Requirement That Existing Drip Pads be Impermeable (Superseded by 57 FR 61492, see Revision Checklist 120 in RCRA Cluster III) (57 FR 5859, 2/18/92)

102 Second Correction to the Third Land Disposal Restrictions (57 FR 8086, 3/6/92)

103 Hazardous Debris Case-by-Case Capacity Variance (57 FR 20766, 5/15/92)

104 Oil Filter Exclusion (57 FR 21524, 5/20/92)

105 Recycled Coke By-Product Exclusion (57 FR 27880, 6/22/92)

106 Lead-Bearing Hazardous Materials Case-by-Case Capacity Variance (57 FR 28628, 6/26/92)

RCRA III

107 Used Oil Filter Exclusion Corrections (57 FR 29220, 7/1/92)

108 Toxicity Characteristic Revisions (57 FR 30657, 7/10/92)

109 Land Disposal Restrictions for Newly Listed Waste and Hazardous Debris (57 FR 37194, 8/18/92)

110 Coke-By-Products Listings (57 FR 37284, 8/18/92)

111 Boilers and Industrial Furnaces; Technical Amendment III (57 FR 38558, 8/25/92)

112 Recycled Used Oil Management Standards (57 FR 41566, 9/10/92)

113 Consolidated Liability Requirements: Financial Responsibility for Third-Party Liability, Closure, and Post-Closure (includes revision checklists 113.1 and 113.2) [(57 FR 42832, 9/16/92 which amends 53 FR 33938, 9/1/88 (formerly revision checklist 51) and 56 FR 30200, 7/1/91 (formerly revision checklist 93)]

114 Boilers and Industrial Furnaces; Technical Amendment IV (57 FR 44999, 9/30/92)

115 Chlorinated Toluenes Production Waste Listing (57 FR 47376, 10/15/92)

116 Hazardous Soil Case-by-Case Capacity Variance (57 FR 47772, 10/20/92)

117A Reissuance of the “Mixture” and “Derived From” Rules (includes revision checklists 117A.1 and 117A.2) (57 FR 7628, 3/3/92 as amended by 57 FR 23062, 6/1/92 and 57 FR 49278, 10/30/92)

117B Toxicity Characteristic Amendment (57 FR 23062, 6/1/92)

118 Liquids in Landfills II (57 FR 54452, 11/18/92)

119 Toxicity Characteristic Revision; TCLP Correction (includes checklist 119.1 revision) (57 FR 55114, 11/24/92 as amended by 58 FR 6854, 2/2/93)

120 Wood Preserving; Amendments to Listings and Technical Requirements (57 FR 61492, 12/24/92)

121 Corrective Action Management Units and Temporary Units (58 FR 8658, 2/16/93)

122 Recycled Used Oil Management Standards; Technical Amendments and Corrections (includes checklist 122.1 revisions) (58 FR 26420, 5/3/93 and 58 FR 33341 6/17/93)

123 Land Disposal Restrictions; Renewal of the Hazardous Waste Debris Case-by-Case Capacity Variance (58 FR 28506, 5/14/93)

124 Land Disposal Restrictions for Ignitable and Corrosive Characteristic Wastes Whose Treatment Standards Were Vacated (58 FR 29860, 5/24/93)

RCRA IV

125 Boilers and Industrial Furnaces; Changes for Consistency with New Air Regulations (58 FR 38816, 7/20/93)

126 Testing and Monitoring Activities (includes checklists 126.1 revisions) (58 FR 46040, 8/31/93 as amended by 59 FR 47980, 9/19/94)

127 Boilers and Industrial Furnaces; Administrative Stay and Interim Standards for Bevill Residues (58 FR 59598, 11/9/93)

128 Wastes From the Use of Chlorophenolic Formulations in Wood Surface Protection (59 FR 458, 1/4/94)

129 Revision of Conditional Exemption for Small Scale Treatability Studies (59 FR 8362, 2/18/94)

130 Recycled Used Oil Management Standards; Technical Amendments and Corrections II (59 FR 10550, 3/4/94)

131 Recordkeeping Instructions; Technical Amendment (59 FR 13891, 3/24/94)

132 Wood Surface Protection; Correction (59 FR 28484, 6/2/94)

133 Letter of Credit Revision (59 FR 29958, 6/10/94)

134 Correction of Beryllium Powder (P015) Listing (59 FR 31551, 6/20/94)

RCRA V

135 Recovered Oil Exclusion (59 FR 38536, 7/28/94)

136 Removal of the Conditional Exemption for Certain Slag Residues (59 FR 43496, 8/24/94)

137 Universal Treatment Standards and Treatment Standards for Organic Characteristic Wastes and Newly Listed Waste (includes checklist 137.1 revisions) (59 FR 47982, 9/19/94 as amended by 60 FR 242, 1/3/95)

139 Testing and Monitoring Activities Amendment I (60 FR 3089, 1/13/95)

140 Carbamate Production Identification and Listing of Hazardous Waste (includes revision checklists 140.1 and 140.2) (60 FR 7824, 2/9/95 as amended by 60 FR 19165, 4/17/95 and 60 FR 25619, 5/12/95)

141 Testing and Monitoring Activities Amendment II (includes checklist 140.1 revisions) (60 FR 17001, 4/4/95 and 60 FR 19165, 4/17/95)

142 Universal Waste Rule (60 FR 25492, 5/11/95)

142A Gengeral Provisions

142B Specific Provisions for Batteries

142C Specific Provisions for Pesticides

142D Specific Provisions for Thermostats

142E Petition Provisions to Add a New Universal Waste

144 Removal of Legally Obsolete Rules (60 FR 33912, 6/29/95)

RCRA VI

148 RCRA Expanded Public Participation (60 FR 63417, 12/11/95)

150 Identification and Listing of Hazardous Waste; Amendments to Definition of Solid Waste (61 FR 13103, 3/26/96)

151 Land Disposal Restrictions Phase III (61 FR 15566, 4/8/96)

(151.1) Land Disposal Restrictions Phase III—Decharacterized Wastewaters, Carbamate Wastes, and Spent Potliners; Partial Withdrawal and Amendment (61 FR 15660, 4/8/96)

(151.2) Land Disposal Restrictions Phase III—Decharacterized Wastewaters, Carbamate Wastes, and Spent Potliners; Correction (61 FR 19117, 4/30/96)

(151.3) Land Disposal Restrictions Phase III—Decharacterized Wastewaters, Carbamate Wastes, and Spent Potliners; Technical Correction (61 FR 33680, 6/28/96)

(151.4) Land Disposal Restrictions Phase III—Decharacterized Wastewaters, Carbamate Wastes, and Spent Potliners; Correction (61 FR 36419, 7/10/96)

(151.5) Land Disposal Restrictions Phase III—Decharacterized Wastewaters, Carbamate Wastes, and Spent Potliners; Emergency Revision (61 FR 43924, 8/26/96)

(151.6) Land Disposal Restrictions Phase III—Decharacterized Wastewaters, Carbamate Wastes, and Spent Potliners; Correction (62 FR 7502, 2/19/97)

RCRA VII

153 Conditionally Exempt Small Quantity Generator Disposal Options Under Subtitle D (61 FR 34252, 7/1/96)

154 Consolidated Organic Air Emission Standards for Tanks, Surface Impoundments, and Containers 154 (includes revisions checklists 154.1-154.6) (59 FR 62896, 12/6/94 as amended by 60 FR 26828, 5/19/95; 60 FR 50426, 9/29/95; 60 FR 56952, 11/13/95; 61 FR 4903, 2/9/96; 61 FR 28508, 6/5/96; and 61 FR 59932, 11/25/96)

155 Land Disposal Restrictions Phase III—Emergency Extension of the K088 Capacity Variance (62 FR 1992, 1/14/97)

156 Military Munitions Rule (62 FR 6622, 2/12/97)

157 Land Disposal Restrictions—Phase IV (62 FR 25998, 5/12/97)

158 Testing and Monitoring Activities Amendment III (62 FR 32452, 6/13/97)

159 Carbamate Production, Identification and Listing of Hazardous Waste; Land Disposal Restrictions (Conformance With the Carbamate Vacatur) (62 FR 32974, 6/17/97)

RCRA VIII

160 Land Disposal Restrictions Phase III: Emergency Extension of K088 National Capacity Variance (62 FR 37694, 7/14/97)

161 Second Emergency Revision of the Land Disposal Restrictions Treatment Standards for Listed Hazardous Wastes from Carbamate Production (62 FR 45568, 8/28/97)

162 Clarification of Standards for Hazardous Waste LDR Treatment Variances (62 FR 64504, 12/5/97)

163 Organic Air Emissions Standards for Tanks, Surface Impoundments and Containers; Classification and Technical Amendment (62 FR 64636, 12/8/97)

164 Kraft Mill Steam Stripper and Condensate Exclusion (63 FR 18504, 4/15/98)

166 Recycled Used Oil Management Standards' Technical Correction and Clarification (including revision checklist 166.1) (63 FR 24963, 5/6/98 and 63 FR 37780, 7/14/98)

167A-F Land Disposal Restrictions Phase IV—Treatment Standards for Metal Wastes and Mineral Processing Wastes; Mineral Processing Secondary Metals and Bevill Exclusion Issues; Treatment Standards for Hazardous Soils, and Exclusion of Recycled Wood Preserving Wastewaters (includes revision checklist 167C.1) (63 FR 28556, 5/26/98)

RCRA IX

169 Petroleum Refining Process (including revision checklist 169.1) (63 FR 42110, 8/6/98 as amended by 63 FR 54356, 10/9/98)

170 Land Disposal Restriction—Phase IV (63 FR 46332, 8/31/98)

171 Emergency Revision of LDR Treatment Standards (63 FR 47410, 9/4/98)

172 Emergency Revision of LDR Treatment Standards (63 FR 48124, 9/9/98)

173 Land Disposal Restrictions Treatment Standards (Spent Potliners) (63 FR 51254, 9/24/98)

176 Universal Waste Rule: Technical Amendment (63 FR 71225, 12/24/98)

177 Organic Air Emission Standards (64 FR 3382, 1/21/99)

178 Petroleum Refining Process Wastes (64 FR 6806, 2/11/99)

179 Land Disposal Treatment Standards: Technical Corrections and Clarifications (64 FR 25408, 5/11/99)

180 Test Procedures for the Analysis of Oil and Grease and Non-Polar Material (64 FR 26315, 5/14/99)

RCRA X

181 Universal Waste Rule (64 FR 36466, 7/6/99)

182 NESHAPS: Final Standards for Hazardous Air Pollutants for Hazardous Waste Combustors (MACT Rule) (including revision checklist 182.1) (64 FR 52828, 9/30/99 as amended by 64 FR 63209, 11/19/99)

183 Land Disposal Restrictions; Wood Preserving Wastes, Metal Wastes, Zinc Micronutrients Fertilizer, etc. (correction) (64 FR 56469, 10/20/99)

184 Wastewater Treatment Sludges from Metal Finishing Industry; 180-day Accumulation Time (65 FR 12378, 3/8/00)

185 Organobromine Production Wastes (65 FR 14472, 3/17/00)

187 Organobromine Production Waste and Petroleum Refining Process Waste: Technical Correction (65 FR 36365, 6/8/00)

RCRA XI

189 Hazardous Waste Management System; Identification and Listing of Hazardous Waste; Chlorinated Aliphatics Production Wastes; Land Disposal Restrictions for Newly Identified Wastes; and CERCLA Hazardous Substance Designation and Reportable Quantities (65 FR 67068, 11/8/00)

190 Deferral of Phase IV Standards for PCBs as a Constituent Subject to Treatment in Soil (65 FR 81373, 12/26/00)

The revisions also include other State regulations which address Federal requirements, including the State provisions identified in Table 3 in the Program Description and including changes that the State has made to its base program regulations that were authorized in 1990.

The specific State regulations that the EPA is proposing to authorize are listed in the table below. State provisions listed as “analogous” may be equivalent or may be more stringent/go beyond the Federal regulations. The Federal requirements in the table are identified by reference to the Code of Federal Regulations (CFR). The following abbreviation is used in defining corresponding state authority: R.C.S.A. (Regulations of Connecticut State Agencies). Note that the table below has been slightly revised from the table in the proposed rulemaking due to ongoing State and Federal legal review.

Description of federal requirements | Analogous state authority
40 CFR part 260:
None | 22a-449(c)-100(a)(1) (partially broader in scope).
None | 22a-449(c)-100(a)(2) (partially broader in scope).
Various record keeping provisions and 262.40(d), 263.22(e), 264.74(b), 265.74(b) and 268.7(a)(8) | 22a-449(c)-100(a)(5).
None | 22a-449(c)-100(c)(28).
None | 22a-449(c)-100(a)(7) (partially broader in scope).
None | 22a-449(c)-100(c) Intro.
260.10—definition of small quantity generator | 22a-449(c)-100(c)(28).
260.2 | 22a-449(c)-100(b)(1)(B).
260.3 | 22a-449(c)-100(b)(2)(A).
260.10 Intro | 22a-449(c)-100(b)(2)(B).
260.11(b) | 22a-449(c)-100(b)(2)(C).
261.1(c)(8) | 22a-449(c)-101(a)(2)(B), 22a-449(c)-101(a)(2)(D) and (F), and 22a-449(c)-106(b)(1)(A).
None, other than definition of Administrator and Regional Administrator in 260.10, 270.2 and State director in 270.2 | 22a-449(c)-100(c)(1).
None, other than definition of EPA region in 260.10 and EPA and Environmental Protection Agency in 270.2 | 22a-449(c)-100(c)(2).
None | 22a-449(c)-100(c)(3).
260.10—definition of battery | 22a-449(c)-100(c)(4).
None | 22a-449(c)-100(c)(5).
260.10, 270.2—definition of corrective action management unit, CAMU | 22a-449(c)-100(c)(7).
None | 22a-449(c)-100(c)(10).
260.10—definition of designated facility | 22a-449(c)-100(c)(11).
260.10—definition of destination facility and 273.80 | 22a-449(c)-100(c)(12).
270.2—definition of Director | 22a-449(c)-100(c)(13).
None | 22a-449(c)-100(c)(14).
260.10—definition of Facility | 22a-449(c)-100(c)(15).
None | 22a-449(c)-100(c)(16).
None | 22a-449(c)-100(c)(17).
260.10, 273.9—definition of Lamp, Universal waste lamp | 22a-449(c)-100(c)(18).
260.10—definition of Miscellaneous Unit | 22a-449(c)-100(c)(21).
None | 22a-449(c)-119(a)(2)(J) and (FFF).
None | 22a-449(c)-100(c)(24).
260.10—definition of Remediation waste | 22a-449(c)-100(c)(26).
260.10—definition of Small quantity generator | 22a-449(c)-100(c)(28).
None other than definition of State in 260.10, 270.2 and Approved program and Approved state in 270.2 | 22a-449(c)-100(c)(29).
None | 22a-449(c)-100(c)(30).
None | 22a-449(c)-100(c)(31).
None | 22a-449(c)-100(c)(32).
260.10, 273.9—definition of Universal Waste and 273.80 | 22a-449(c)-100(c)(33).
273.80 | 22a-449(c)-100(c)(34).
260.10 and 279.1—definition of Used oil | 22a-449(c)-100(c)(35) (partially broader in scope).
40 CFR part 261:
261.1(c)(8) | 22a-449(c)-101(a)(2)(B), 22a-449(c)-101(a)(2)(D) and (F) and 22a-449(c)-106(b)(1)(A).
261.2(a)(2)(iv) | 22a-449(c)-101(a)(1)(A).
261.4(a)(16) | 22a-449(c)-101(a)(1)(B).
261.4(b)(6) | 22a-449(c)-101(a)(1)(C).
261.4(b)(11) | 22a-449(c)-101(a)(1)(D).
261.4(g) | 22a-449(c)-101(a)(1)(E).
261.38 | 22a-449(c)-101(a)(1)(F).
261.2(c)(3) | 22a-449(c)-101(a)(2)(D).
261.2(e) | 22a-449(c)-101(a)(2)(F).
261.3(a)(2)(v) | 22a-449(c)-101(a)(2)(G).
261.3(c)(2)(i) | 22a-449(c)-101(a)(2)(H).
261.4(a)(1)(ii) | 22a-449(c)-101(a)(2)(I).
261.4(a)(15) | 22a-449(c)-101(a)(2)(J).
261.4(a)(17)(iii) | 22a-449(c)-101(a)(2)(K).
261.4(a)(17)(v) | 22a-449(c)-101(a)(2)(N).
261.5(c)(6)/273.80 | 22a-449(c)-101(a)(2)(Q).
261.5(f)(3)(iv)-261.5(f)(3)(vii) | 22a-449(c)-101(a)(2)(S).
261.5(g)(2) | 22a-449(c)-101(a)(2)(T).
261.5(g)(3)(iv)-(vii) | 22a-449(c)-101(a)(2)(U).
261.5(j) | 22a-449(c)-101(a)(2)(W).
261.6(a)(4) | 22a-449(c)-101(a)(2)(Y) (partially broader in scope).
261.6(c)(1) | 22a-449(c)-101(a)(2)(Z) (partially broader in scope).
261.9/273.80 | 22a-449(c)-101(a)(2)(AA).
261.9(d)/273.80 | 22a-449(c)-101(a)(2)(CC).
261.31(a) | 22a-449(c)-101(a)(2)(DD).
261.32 | 22a-449(c)-101(a)(2)(EE).
Part 261 Appendix VII | 22a-449(c)-101(a)(2)(GG).
Part 261 Appendix VIII | 22a-449(c)-101(a)(2)(HH).
None | 22a-449(c)-101(b) intro.
None | 22a-449(c)-101(b)(1).
None | 22a-449(c)-101(b)(2).
None | 22a-449(c)-101(a)(1), 22a-449(c)-101(a)(2)(D) and (F), and 22a-449(c)-106(b)(1)(A).
None | 22a-449(c)-101(c)(2).
None | 22a-449(c)-101(c)(3).
260.40 and 260.41 | 22a-449(c)-101(c)(4).
40 CFR part 262:
262.34(g)(4)(ii) | 22a-449(c)-102(a)(1)(B).
262.10(g) formerly 262.10(e) | 22a-449(c)-100(a)(7).
262.11 | 22a-449(c)-102(a)(2)(A).
262.11(d)/273.80 | 22a-449(c)-102(a)(2)(B).
262.20(f) | 22a-449(c)-102(a)(2)(C).
262.34(a) | 22a-449(c)-102(a)(2)(D).
262.34(a)(1)(i) formerly 262.34(a)(1) | 22a-449(c)-102(a)(2)(E).
262.34(a)(1)(ii) formerly 262.34(a)(1) | 22a-449(c)-102(a)(2)(F).
262.34(a)(1)(iii) | 22a-449(c)-102(a)(2)(G).
262.34(a)(1)(iv) intro | 22a-449(c)-102(a)(2)(H).
262.34(a)(1)(iv)(A) | 22a-449(c)-102(a)(2)(I).
262.34(a)(3) | 22a-449(c)-102(a)(2)(J).
262.34(a)(4) | 22a-449(c)-102(a)(2)(K) (Also see 22a-449(c)-102(a)(2)(D), 2nd bullet).
262.34(b) | 22a-449(c)-102(a)(2)(L).
262.34(c)(1)(i) | 22a-449(c)-102(a)(2)(M).
262.34(c)(1)(ii) | 22a-449(c)-102(a)(2)(N).
262.34(d)(5)(iv)(C) | 22a-449(c)-102(a)(2)(P).
262.34(g)(1) | 22a-449(c)-102(a)(2)(R).
262.34(g)(2) | 22a-449(c)-102(a)(2)(S).
262.34(g)(4)(i)(A) | 22a-449(c)-102(a)(2)(T).
262.34(g)(4)(i)(C) | 22a-449(c)-102(a)(2)(U).
262.34(g)(4)(iv) | 22a-449(c)-102(a)(2)(W).
262.34(g)(4)(v) | 22a-449(c)-102(a)(2)(X).
262.41(a) | 22a-449(c)-102(a)(2)(AA).
262.43 | 22a-449(c)-102(a)(2)(DD).
262.44 | 22a-449(c)-102(a)(2)(EE).
262 Appendix | 22a-449(c)-102(a)(2)(II).
None | 22a-449(c)-102(b)(2) and (3).
None | 22a-449(c)-102(b)(4).
None | 22a-449(c)-100(c)(28).
None | 22a-449(c)-102(c)(2).
40 CFR part 263:
263.10(f) | 22a-449(c)-103(a)(1)(A).
263.10(a) | 22a-449(c)-103(a)(2)(A).
263.30(c)(1) | 22a-449(c)-103(a)(2)(D).
40 CFR part 264:
264.1(i) | 22a-449(c)-104(a)(1)(D).
264.1(j) | 22a-449(c)-104(a)(1)(E).
264.90(e) | 22a-449(c)-104(a)(1)(G).
264.90(f) | 22a-449(c)-104(a)(1)(H).
264.101(d) | 22a-449(c)-104(a)(1)(I).
264.110(c) | 22a-449(c)-104(a)(1)(J).
264.112(b)(8) | 22a-449(c)-104(a)(1)(K).
264.112(c)(2)(iv) | 22a-449(c)-104(a)(1)(L).
264.118(b)(4) | 22a-449(c)-104(a)(1)(M).
264.118(d)(2)(iv) | 22a-449(c)-104(a)(1)(N).
264.140(d) | 22a-449(c)-104(a)(1)(O).
264.314(e) | 22a-449(c)-104(a)(1)(S).
264.340(b) | 22a-449(c)-104(a)(1)(T).
264.554 | 22a-449(c)-104(a)(1)(U).
264, subpart EE | 22a-449(c)-104(a)(1)(W).
264.13(a)(4) | None (Former state requirement was deleted).
264.1(g)(2) | 22a-449(c)-104(a)(2)(A).
264.1(g)(11) intro and 273.80 | 22a-449(c)-104(a)(2)(B).
264.1(g)(11)(iv)/273.80 | 22a-449(c)-104(a)(2)(D).
264.13(c)(3) | 22a-449(c)-104(a)(2)(F), see also 22a-449(c)-104(a)(2)(GG).
264.70 | 22a-449(c)-104(a)(2)(G).
264.73(b)(17) | 22a-449(c)-104(a)(2)(L).
264.75 | 22a-449(c)-104(a)(2)(M).
264.90(a)(1) | 22a-449(c)-104(a)(2)(N) (Note: 40 CFR 264.90(b) is not incorporated into the state's regulations. See 22a-449(c)-104(a)(1)(F).)
264.101(a) | 22a-449(c)-104(a)(2)(O).
264.143(h) | 22a-449(c)-104(a)(2)(P).
264.145(h) | 22a-449(c)-104(a)(2)(R).
264.151 | 22a-449(c)-104(a)(2)(U).
264.192(d) | 22a-449(c)-104(a)(2)(W).
264.196(d)(1) | 22a-449(c)-104(a)(2)(Z).
264.222(a) | 22a-449(c)-104(a)(2)(AA).
264.252(a) | 22a-449(c)-104(a)(2)(BB).
264.302(a) | 22a-449(c)-104(a)(2)(FF).
264.316(b) | 22a-449(c)-104(a)(2)(GG).
264.340(c) intro | 22a-449(c)-104(a)(2)(HH).
264.552(a) | 22a-449(c)-104(a)(2)(JJ).
264.552(a)(1) | 22a-449(c)-104(a)(2)(KK).
264.552(a)(2) | 22a-449(c)-104(a)(2)(LL).
264.552(b)(2) | 22a-449(c)-104(a)(2)(MM).
264.552(c) intro | 22a-449(c)-104(a)(2)(NN).
264.552(c)(4) | 22a-449(c)-104(a)(2)(OO).
264.552(c)(5) | 22a-449(c)-104(a)(2)(PP).
264.552(e) | 22a-449(c)-104(a)(2)(QQ).
264.552(e)(4)(i)(B) | 22a-449(c)-104(a)(2)(RR).
264.552(e)(4)(iii)(F) | 22a-449(c)-104(a)(2)(SS).
264.552(e)(4)(iv) | 22a-449(c)-104(a)(2)(TT).
264.552(g) | 22a-449(c)-104(a)(2)(UU).
264.552(h) | 22a-449(c)-104(a)(2)(VV).
264.553(a) | 22a-449(c)-104(a)(2)(WW).
264.553(c)(7) | 22a-449(c)-104(a)(2)(XX).
264.553(d) | 22a-449(c)-104(a)(2)(YY).
264.553(e) | 22a-449(c)-104(a)(2)(ZZ).
264.553(f) | 22a-449(c)-104(a)(2)(AAA).
264.570(a) | 22a-449(c)-104(a)(2)(BBB).
264.570(c)(1)(iv) | 22a-449(c)-104(a)(2)(CCC).
264.601 intro | 22a-449(c)-104(a)(2)(FFF).
264.1030(c) | 22a-449(c)-104(a)(2)(GGG).
264.1033(l) intro | 22a-449(c)-104(a)(2)(HHH).
264.1033(l)(1) | 22a-449(c)-104(a)(2)(III).
264.1033(l)(2) | 22a-449(c)-104(a)(2)(KKK).
264.1034(f) | 22a-449(c)-104(a)(2)(LLL).
264.1050(c) | 22a-449(c)-104(a)(2)(MMM).
264.1063(f) | 22a-449(c)-104(a)(2)(NNN).
264.1080(b)(3) | 22a-449(c)-104(a)(2)(OOO).
264.1080(b)(4) | 22a-449(c)-104(a)(2)(PPP).
264.1080(b)(7) | 22a-449(c)-104(a)(2)(QQQ).
284.1080(c) | 22a-449(c)-104(a)(2)(RRR).
264.1080(d) intro | 22a-449(c)-104(a)(2)(SSS).
264.1080(d)(1) | 22a-449(c)-104(a)(2)(TTT).
264.1080(d)(3) | 22a-449(c)-104(a)(2)(UUU).
264.1081 | 22a-449(c)-104(a)(2)(VVV).
264.1082(b) | 22a-449(c)-104(a)(2)(WWW).
264.1082(c)(2) | 22a-449(c)-104(a)(2)(XXX).
264.1082(c)(2)(vii)(A) | 22a-449(c)-104(a)(2)(ZZZ).
264.1082(c)(2)(viii)(A) | 22a-449(c)-104(a)(2)(BBBB).
264.1082(c)(5)(i) | 22a-449(c)-104(a)(2)(CCCC) (partially broader in scope).
264.1082(c)(5)(iii) | 22a-449(c)-104(a)(2)(DDDD) (partially broader in scope).
264.1082(d)(2)(ii) | 22a-449(c)-104(a)(2)(EEEE).
264.1083(a)(1)(i) | 22a-449(c)-104(a)(2)(FFFF).
264.1083(a)(1)(ii) | 22a-449(c)-104(a)(2)(GGGG).
264.1083(b)(1)(i) | 22a-449(c)-104(a)(2)(HHHH).
264.1083(b)(1)(ii) | 22a-449(c)-104(a)(2)(IIII).
264.1084(c)(1) | 22a-449(c)-104(a)(2)(KKKK).
264.1084(c)(2) | 22a-449(c)-104(a)(2)(LLLL).
264.1084(c)(2)(i) | 22a-449(c)-104(a)(2)(MMMM).
264.1084(c)(2)(ii) | 22a-449(c)-104(a)(2)(NNNN).
264.1084(f)(1) | 22a-449(c)-104(a)(2)(QQQQ).
264.1084(f)(1)(i) | 22a-449(c)-104(a)(2)(RRRR).
264.1084(f)(1)(ii)(A) | 22a-449(c)-104(a)(2)(SSSS).
264.1084(h)(1) | 22a-449(c)-104(a)(2)(WWWW).
264.1084(i)(1) | 22a-449(c)-104(a)(2)(ZZZZ) (partially broader in scope).
264.1084(l)(1)(ii) | 22a-449(c)-104(a)(2)(BBBBB).
264.1085(b) | 22a-449(c)-104(a)(2)(CCCCC).
264.1085(c)(1) | 22a-449(c)-104(a)(2)(EEEEE).
264.1085(c)(1)(i) | 22a-449(c)-104(a)(2)(FFFFF).
264.1085(d)(1)(i) | 22a-449(c)-104(a)(2)(IIIII).
264.1085(d)(1)(ii) | 22a-449(c)-104(a)(2)(JJJJJ).
264.1085(g)(2) | 22a-449(c)-104(a)(2)(MMMMM).
264.1086(c)(4)(iii) | 22a-449(c)-104(a)(2)(NNNNN).
264.1086(d)(4)(iii) | 22a-449(c)-104(a)(2)(OOOOO).
264.1086(e)(2)(i) | 22a-449(c)-104(a)(2)(QQQQQ) (partially broader in scope).
264.1086(g)(1) | 22a-449(c)-104(a)(2)(SSSSS).
264.1086(g)(2) | 22a-449(c)-104(a)(2)(TTTTT).
264.1086(h) | 22a-449(c)-104(a)(2)(UUUUU).
264.1087(b) | 22a-449(c)-104(a)(2)(VVVVV).
264.1087(c) | 22a-449(c)-104(a)(2)(XXXXX).
264.1087(c)(2)(vi) | 22a-449(c)-104(a)(2)(YYYYY).
264.1087(c)(3)(ii) | 22a-449(c)-104(a)(2)(ZZZZZ).
264.1087(c)(6) | 22a-449(c)-104(a)(2)(AAAAAA).
264.1088(b) | 22a-449(c)-104(a)(2)(BBBBBB).
264.1089(a) | 22a-449(c)-104(a)(2)(CCCCCC).
264.1089(b)(1)(ii)(A) | 22a-449(c)-104(a)(2)(DDDDDD).
264.1089(b)(2)(i) | 22a-449(c)-104(a)(2)(EEEEEE).
264.1089(b)(2)(iii)(B) | 22a-449(c)-104(a)(2)(FFFFFF).
264.1089(c)(3)(i) | 22a-449(c)-104(a)(2)(GGGGGG).
264.1089(i) | 22a-449(c)-104(a)(2)(HHHHHH).
264.1090(a) | 22a-449(c)-104(a)(2)(IIIIII).
264.1090(b) | 22a-449(c)-104(a)(2)(JJJJJJ).
264.1090(c) | 22a-449(c)-104(a)(2)(KKKKKK).
None | 22a-449(c)-104(c).
None | 22a-449(c)-104(e).
40 CFR Part 265:
265.90(c) | 22a-449(c)-105(a)(1)(N).
265.1(f) | 22a-449(c)-105(a)(1)(C).
265.90(f) | 22a-449(c)-105(a)(1)(E).
265.110(c) | 22a-449(c)-105(a)(1)(F).
265.110(d) | 22a-449(c)-105(a)(1)(G).
265.112(b)(8) | 22a-449(c)-105(a)(1)(H).
265.112(c)(1)(iv) | 22a-449(c)-105(a)(1)(I).
265.118(c)(4)&(5) | 22a-449(c)-105(a)(1)(J).
265.118(d)(1)(iii) | 22a-449(c)-105(a)(1)(K).
265.121 | 22a-449(c)-105(a)(1)(L).
265.140(d) | 22a-449(c)-105(a)(1)(M).
265.314(f) | 22a-449(c)-105(a)(1)(R).
265.340(b) | 22a-449(c)-105(a)(1)(S).
265.1082(a) | 22a-449(c)-105(a)(1)(V).
265, subpart EE | 22a-449(c)-105(a)(1)(W).
265.13(a)(4) | None.
265.1(b) | 22a-449(c)-105(a)(2)(A).
265.1(c)(14) | 22a-449(c)-105(a)(2)(B).
265.1(c)(14)(iv) | 22a-449(c)-105(a)(2)(D).
265.13(c)(3) | 22a-449(c)-105(a)(2)(F) (See 22a-449(c)-104(a)(2)(MM)).
265.15(b)(4) | 22a-449(c)-105(a)(2)(G).
265.70 | 22a-449(c)-105(a)(2)(H).
265.73(b)(13) & (14) | 22a-449(c)-105(a)(2)(K) and (L).
265.75 | 22a-449(c)-105(a)(2)(M).
265.90(c) | 22a-449(c)-105(a)(2)(N).
265.143(g) | 22a-449(c)-105(a)(2)(O).
265.145(e)(11) | 22a-449(c)-105(a)(2)(P).
265.145(g) | 22a-449(c)-105(a)(2)(Q).
265.147(b)(1) | 22a-449(c)-105(a)(2)(R).
265.192(d) | 22a-449(c)-105(a)(2)(S).
265.196(d)(1) | 22a-449(c)-105(a)(2)(V).
265.222(b)/265.221(g) | 22a-449(c)-105(a)(2)(X) (Note: Federal citation 265.222(b) was redesignated 265.221(g)).
265.222(a) | 22a-449(c)-105(a)(2)(Y).
265.222(b) | 22a-449(c)-105(a)(2)(Z).
265.223/265.224 | 22a-449(c)-105(a)(2)(AA) & (BB).
265.229(b)(2) | 22a-449(c)-105(a)(2)(DD) (Note: This section corrects a publication error in the code of federal regulations. Language identical to that in 40 CFR 265.229(b)(2) appears, as it should, in 40 CFR 265.228(b)(2). However, as a result of publication error, the language in 40 CFR 265.229(b)(2) is misplaced and unnecessarily duplicates that in 40 CFR 265.228(b)(2). As such, section 22a-449(c)-105(a)(2)(DD) deletes 40 CFR 265.229(b)(2)).
265.229(b)(4) | 22a-449(c)-105(a)(2)(FF) (Note: 40 CFR 265.229(b)(3) was redesignated 40 CFR 265.229(b)(4)).
26a5.255(a) | 22a-449(c)-105(a)(2)(GG), 1st-3rd bullets.
265.255(b) | 22a-449(c)-105(a)(2)(HH).
265.272(a) | 22a-449(c)-105(a)(2)(II).
265.301(a) | 22a-449(c)-105(a)(2)(JJ).
265.302(a) | 22a-449(c)-105(a)(2)(KK).
265.302(b) | 22a-449(c)-105(a)(2)(LL).
265.316(b) | 22a-449(c)-105(a)(2)(MM).
265.340(c) | 22a-449(c)-105(a)(2)(NN).
265.440(a) | 22a-449(c)-105(a)(2)(PP).
265.440(c)(1)(iv) | 22a-449(c)-105(a)(2)(QQ).
265.1033(k) intro | 22a-449(c)-105(a)(2)(TT).
265.1033(k)(1) | 22a-449(c)-105(a)(2)(UU).
265.1033(k)(2) | 22a-449(c)-105(a)(2)(WW).
265.1034(f) | 22a-449(c)-105(a)(2)(XX).
265.1063(f) | 22a-449(c)-105(a)(2)(YY).
265.1080(b)(3) | 22a-449(c)-105(a)(2)(ZZ).
265.1080(b)(4) | 22a-449(c)-105(a)(2)(AAA).
265.1080(c) intro | 22a-449(c)-105(a)(2)(CCC).
265.1080(d)(1) | 22a-449(c)-105(a)(2)(EEE).
265.1080(d)(3) | 22a-449(c)-105(a)(2)(FFF).
265.1081 | 22a-449(c)-105(a)(2)(GGG).
265.1082(b)(2)(i) | 22a-449(c)-105(a)(2)(HHH).
265.1082(c) | 22a-449(c)-105(a)(2)(III).
265.1082 | 22a-449(c)-105(a)(2)(JJJ).
265.1083(b) | 22a-449(c)-105(a)(2)(KKK).
265.1083(c)(2)(vii)(A) | 22a-449(c)-105(a)(2)(NNN).
265.1083(c)(2)(viii)(A) | 22a-449(c)-105(a)(2)(PPP).
265.1083(c)(5)(i) | 22a-449(c)-105(a)(2)(QQQ).
265.1083(c)(5)(iii) | 22a-449(c)-105(a)(2)(RRR), 2nd bullet.
265.1083(d)(2)(ii) | 22a-449(c)-105(a)(2)(SSS).
265.1084(a)(1)(i) | 22a-449(c)-105(a)(2)(TTT).
265.1084(b)(1)(i) | 22a-449(c)-105(a)(2)(VVV).
265.1085(c)(2) | 22a-449(c)-105(a)(2)(ZZZ).
265.1085(c)(2)(i) | 22a-449(c)-105(a)(2)(AAAA).
265.1085(c)(2)(ii) | 22a-449(c)-105(a)(2)(BBBB).
265.1085(f)(1) | 22a-449(c)-105(a)(2)(EEEE).
265.1085(f)(1)(i) | 22a-449(c)-105(a)(2)(FFFF).
265.1085(f)(1)(ii)(A) | 22a-449(c)-105(a)(2)(GGGG).
265.1085(h)(1) | 22a-449(c)-105(a)(2)(KKKK).
265.1085(l)(1)(ii) | 22a-449(c)-105(a)(2)(PPPP).
265.1086(b) | 22a-449(c)-105(a)(2)(QQQQ).
265.1086(c)(1) | 22a-449(c)-105(a)(2)(SSSS).
265.1086(c)(1)(i) | 22a-449(c)-105(a)(2)(TTTT).
265.1086(d)(1)(i) | 22a-449(c)-105(a)(2)(WWWW).
265.1086(d)(1)(ii) | 22a-449(c)-105(a)(2)(XXXX).
265.1086(g)(2) | 22a-449(c)-105(a)(2)(AAAAA).
265.1087(c)(4)(iii) | 22a-449(c)-105(a)(2)(BBBBB).
265.1087(d)(4)(iii) | 22a-449(c)-105(a)(2)(CCCCC).
265.1087(e)(2)(i) | 22a-449(c)-105(a)(2)(EEEEE) (partially broader in scope).
265.1087(g)(1) | 22a-449(c)-105(a)(2)(GGGGG).
265.1087(g)(2) | 22a-449(c)-105(a)(2)(HHHHH).
265.1087(b) | 22a-449(c)-105(a)(2)(IIIII).
265.1088(c) | 22a-449(c)-105(a)(2)(LLLLL).
265.1088(c)(2)(vi) | 22a-449(c)-105(a)(2)(MMMMM).
265.1088(c)(3)(ii) | 22a-449(c)-105(a)(2)(NNNNN).
265.1088(c)(6) | 22a-449(c)-105(a)(2)(OOOOO).
265.1089(b) | 22a-449(c)-105(a)(2)(PPPPP).
265.1090(a) | 22a-449(c)-105(a)(2)(QQQQQ).
265.1090(b)(1)(ii)(A) | 22a-449(c)-105(a)(2)(RRRRR).
265.1090(b)(2)(i) | 22a-449(c)-105(a)(2)(SSSSS).
265.1090(b)(2)(iii)(B) | 22a-449(c)-105(a)(2)(TTTTT).
265.1090(c)(3)(i) | 22a-449(c)-105(a)(2)(UUUUU).
265.1090(i) intro | 22a-449(c)-105(a)(2)(VVVVV).
265.1091 | 22a-449(c)-105(a)(2)(WWWWW).
None | 22a-449(c)-105(c)(1)(A).
None | 22a-449(c)-105(c)(1)(B).
None | 22a-449(c)-105(c)(2)(A).
None | 22a-449(c)-105(c)(2)(B).
None | 22a-449(c)-105(c)(3)(A).
None | 22a-449(c)-105(c)(3)(A)(ii).
None | 22a-449(c)-105(c)(3)(A)(iii).
None | 22a-449(c)-105(c)(3)(B).
None | 22a-449(c)-105(c)(3)(B)(ii).
None | 22a-449(c)-105(c)(3)(B)(iii).
None | 22a-449(c)-105(c)(3)(B)(iv)/(v).
None | 22a-449(c)-105(c)(3)(B)(xi).
None | 22a-449(c)-105(c)(4)(B).
None | 22a-449(c)-105(c)(4)(C).
None | 22a-449(c)-105(e).
265.201(b)(3) | 22a-449(c)-102(c)(2) (Also see 22a-449(c)-105(a)(1)(O)).
None | 22a-449(c)-105(g).
264.101 interim status land disposal facilities | 22a-449(c)-105(h)(1)-(11) and 22a-449(c)-110(a)(2)(RR).
40 CFR part 266: |
266.80 | 22a-449(c)-106(a)(1)(A).
266.100(b) | 22a-449(c)-106(a)(1)(B).
266.100(d)(3)(i)(D) | 22a-449(c)-106(a)(1)(C).
266, subpart M | 22a-449(c)-106(a)(1)(D).
None | 22a-449(c)-106(a)(2).
266.100(a) | 22a-449(c)-106(a)(2)(A).
266.100(d) intro | 22a-449(c)-106(a)(2)(B).
266.100(d)(1) intro | 22a-449(c)-106(a)(2)(C).
266.100(d)(1)(ii) | 22a-449(c)-106(a)(2)(E).
266.100(d)(1)(iii) | 22a-449(c)-106(a)(2)(F).
None | 22a-449(c)-106(a)(2)(G).
266.100(d)(3) intro | 22a-449(c)-106(a)(2)(J).
266.100(d)(3)(ii) | 22a-449(c)-106(a)(2)(N).
266.100(g)(2) | 22a-449(c)-106(a)(2)(O).
266.100(g)(3) | 22a-449(c)-106(a)(2)(P).
None | 22a-449(c)-106(a)(2)(Q).
266.100(h) | 22a-449(c)-106(a)(2)(R).
266.100(e)(3)(i)(E) | 22a-449(c)-106(a)(2)(T).
266.112(b)(2)(i) | 22a-449(c)-106(a)(2)(V).
279.12/279.71 | 22a-449(c)-119(a)(2)(J) and (a)(2)(TTT).
None | 22a-449(c)-106(b)(1)(A).
None | 22a-449(c)-106(b)(1)(B).
None | 22a-449(c)-106(c)(1).
None | 22a-449(c)-106(c)(1)(A).
None | 22a-449(c)-106(c)(1)(B).
None | 22a-449(c)-106(c)(1)(C).
None | 22a-449(c)-106(c)(1)(D).
266.80(a) | 22a-449(c)-106(c)(2).
266.80(b)(1) | 22a-449(c)-106(c)(3).
266.80(b)(2) | 22a-449(c)-106(c)(4).
None | 22a-449(c)-106(c)(5).
None | 22a-449(c)-106(c)(6).
261.32, see entry for K174 and K175 | 22a-449(c)-106(d)(1).
261.32 (K174 listing) | 22a-449(c)-106(d)(2) (partially broader in scope).
261.32 (K174 listing) | 22a-449(c)-106(d)(3).
261.32 (K174 listing) | 22a-449(c)-106(d)(4).
261.32 (K174 listing) | 22a-449(c)-106(d)(5).
266.202(d) | 22a-449(c)-106(e).
40 CFR Part 268:
268.6 | None.
268.1(c)(3) | 22a-449(c)-108(a)(1)(A).
268.37(b) | 22a-449(c)-108(a)(1)(C).
268.50(g) | 22a-449(c)-108(a)(1)(D).
None | 22a-449(c)-108(a)(2).
268.1(f) and 273.80 | 22a-449(c)-108(a)(2)(A).
268.1(f)(4)/273.80 | 22a-449(c)-108(a)(2)(C).
268.2(c) | 22a-449(c)-108(a)(2)(D).
268.7(a)(2) | 22a-449(c)-108(a)(2)(E).
268.7(a)(3)(i) | 22a-449(c)-108(a)(2)(F).
268.7(a)(3)(ii) | 22a-449(c)-108(a)(2)(G).
268.7(a)(3)(iii) | 22a-449(c)-108(a)(2)(H).
268.7(a)(4) | 22a-449(c)-108(a)(2)(I).
268.7(a)(7) | 22a-449(c)-108(a)(2)(J).
268.7(a)(9)(i) | 22a-449(c)-108(a)(2)(K).
268.7(a)(9)(ii) | 22a-449(c)-108(a)(2)(L).
268.7(b)(3)(i) | 22a-449(c)-108(a)(2)(N).
268.7(b)(3) | 22a-449(c)-108(a)(2)(M).
268.7(b)(4)(i) | 22a-449(c)-108(a)(2)(O).
268.7(d)(1) | 22a-449(c)-108(a)(2)(R).
268.7(e)(2) | 22a-449(c)-108(a)(2)(U).
268.32-268.33 | 22a-449(c)-108(a)(2)(V).
268.37(a) | 22a-449(c)-108(a)(2)(W).
268.38(a) | 22a-449(c)-108(a)(2)(X).
268.38(b) | 22a-449(c)-108(a)(2)(Y).
268.39(b) | 22a-449(c)-108(a)(2)(Z).
268.40(e) | 22a-449(c)-108(a)(2)(AA).
268.40 Table | 22a-449(c)-108(a)(2)(BB).
268.44(h)(5) | 22a-449(c)-108(a)(2)(CC).
268.48 Table | 22a-449(c)-108(a)(2)(DD).
268.49(d) | 22a-449(c)-108(a)(2)(EE).
268 Appendix I-III | 22a-449(c)-108(a)(2)(FF).
268.48 Appendix VII | 22a-449(c)-108(a)(2)(GG).
None | 22a-449(c)-108(a)(3) (partially broader in scope).
None | 22a-449(c)-108(b).
40 CFR parts 270 and 124:
None | 22a-449(c)-110(a)(1).
270.1(c)(1)(i) | 22a-449(c)-110(a)(1)(B).
270.1(c)(7) | 22a-449(c)-110(a)(1)(D).
270.10(e)(2) | 22a-449(c)-110(a)(1)(E).
270.11(d)(2) | 22a-449(c)-110(a)(1)(G).
270.12 | 22a-449(c)-110(a)(1)(H).
270.19(e) | 22a-449(c)-110(a)(1)(I).
270.22 intro | 22a-449(c)-110(a)(1)(J).
270.28 | 22a-449(c)-110(a)(1)(K).
270.42(h) | 22a-449(c)-110(a)(1)(M).
270.42(i) | 22a-449(c)-110(a)(1)(N).
270.42(j) | 22a-449(c)-110(a)(1)(O).
270.42, App I, Item L(9) | 22a-449(c)-110(a)(1)(P).
270.62 intro | 22a-449(c)-110(a)(1)(S).
270.64 | 22a-449(c)-110(a)(1)(T).
270.66 intro | 22a-449(c)-110(a)(1)(U).
270.68 | 22a-449(c)-110(a)(1)(V).
270.72(b)(8) | 22a-449(c)-110(a)(1)(W).
270, subpart H | 22a-449(c)-110(a)(1)(X).
124.10(c)(1)(viii) | 22a-449(c)-110(a)(1)(Z).
None | 22a-449(c)-110(a)(1)(G).
None | 22a-449(c)-110(a)(2).
270.1(c) intro | 22a-449(c)-110(a)(2)(A).
270.1(c)(2)(viii) intro | 22a-449(c)-110(a)(2)(C).
270.1(c)(2)(viii)(D) | 22a-449(c)-110(a)(2)(E).
270.2 | 22a-449(c)-110(a)(2)(F).
270.4(a) | 22a-449(c)-110(a)(2)(G).
270.10(e)(4) | 22a-449(c)-110(a)(2)(I).
270.10(f)(2) | 22a-449(c)-110(a)(2)(J).
270.10(g)(1)(ii) | 22a-449(c)-110(a)(2)(K).
270.10(g)(1)(iii) | 22a-449(c)-110(a)(2)(L).
270.14(a) | 22a-449(c)-110(a)(2)(N).
270.14(b)(18) | 22a-449(c)-110(a)(2)(O).
270.14(b)(22) | 22a-449(c)-110(a)(2)(P).
270.19(d) intro | 22a-449(c)-110(a)(2)(R).
270.27(a)(3) | 22a-449(c)-110(a)(2)(S).
270.29 | 22a-449(c)-110(a)(2)(T).
270.30(k)(3) | 22a-449(c)-110(a)(2)(U).
270.32(a) | 22a-449(c)-110(a)(2)(V).
270.32(b)(2) | 22a-449(c)-110(a)(2)(W).
270.32(c) | 22a-449(c)-110(a)(2)(X).
270.40(a) | 22a-449(c)-110(a)(2)(Y).
270.41 | 22a-449(c)-110(a)(2)(Z).
270.42(b)(2) | 22a-449(c)-110(a)(2)(BB), 1st bullet.
270.42(b)(5) | 22a-449(c)-110(a)(2)(CC).
270.42(b)(7) | 22a-449(c)-110(a)(2)(DD).
270.42(c)(2) | 22a-449(c)-110(a)(2)(EE).
270.42(d)(1) | 22a-449(c)-110(a)(2)(FF).
270.42(f)(1) | 22a-449(c)-110(a)(2)(GG).
270.42 App I | 22a-449(c)-110(a)(2)(HH).
270.43 | 22a-449(c)-110(a)(2)(II).
270.62(b)(5) | 22a-449(c)-110(a)(2)(KK).
270.62(b)(6) | 22a-449(c)-110(a)(2)(LL).
270.62(b)(6)(i) | 22a-449(c)-110(a)(2)(MM).
270.62(d) | 22a-449(c)-110(a)(2)(NN).
270.66(d)(3) | 22a-449(c)-110(a)(2)(OO).
270.66(d)(3)(i) | 22a-449(c)-110(a)(2)(PP).
270.66(g) | 22a-449(c)-110(a)(2)(QQ), 2nd, 3rd, and 4th bullets.
270.73(a) | 22a-449(c)-110(a)(2)(RR), 1st and 2nd bullets.
270.73 | 22a-449(c)-110(a)(2)(SS).
124.3(a) | 22a-449(c)-110(a)(2)(TT).
124.5(a) | 22a-449(c)-110(a)(2)(UU).
124.5(c)(3) | 22a-449(c)-110(a)(2)(VV).
124.6(a) | 22a-449(c)-110(a)(2)(XX).
124.6(e) | 22a-449(c)-110(a)(2)(YY).
124.8(a) | 22a-449(c)-110(a)(2)(ZZ).
124.8(b)(4) | 22a-449(c)-110(a)(2)(AAA).
124.10(a)(1)(iii) | 22a-449(c)-110(a)(2)(BBB).
124.10(b)(2) | 22a-449(c)-110(a)(2)(DDD).
124.10(d)(1)(v) | 22a-449(c)-110(a)(2)(EEE), 2nd bullet.
124.10(d)(1)(vi) | 22a-449(c)-110(a)(2)(FFF).
124.10(d)(2) | 22a-449(c)-110(a)(2)(GGG).
124.10(d)(2)(ii) and (iii) | 22a-449(c)-110(a)(2)(HHH).
124.12(a) | 22a-449(c)-110(a)(2)(III).
124.13 | 22a-449(c)-110(a)(2)(JJJ), 2nd bullet.
124.17(a) | 22a-449(c)-110(a)(2)(KKK).
124.17(c) | 22a-449(c)-110(a)(2)(LLL).
124.31(a) | 22a-449(c)-110(a)(2)(MMM).
124.31(b) | 22a-449(c)-110(a)(2)(NNN).
124.31(d) | 22a-449(c)-110(a)(2)(OOO).
124.31(d)(1)(i) | 22a-449(c)-110(a)(2)(PPP), 2nd bullet.
124.31(d)(1)(ii) | 22a-449(c)-110(a)(2)(QQQ).
124.31(d)(1)(iii) | 22a-449(c)-110(a)(2)(RRR).
124.32(a) | 22a-449(c)-110(a)(2)(TTT).
124.32(b)(1) | 22a-449(c)-110(a)(2)(UUU), 1st bullet.
124.32(b)(2) | 22a-449(c)-110(a)(2)(VVV).
124.32(b)(3) | 22a-449(c)-110(a)(2)(WWW).
124.33(a) | 22a-449(c)-110(a)(2)(XXX).
124.33(b) | 22a-449(c)-110(a)(2)(YYY), 1st and 2nd bullets.
124.33(d) | 22a-449(c)-110(a)(2)(ZZZ), 2nd bullet.
124.33(e) | 22a-449(c)-110(a)(2)(AAAA), 1st bullet.
124.33(f) | 22a-449(c)-110(a)(2)(BBBB).
None | 22a-449(c)-110(a)(3).
40 CFR part 273:
273.32(a)(3) | 22a-449(c)-113(a)(1) (Note: CT did not adopt 40 CFR 273.32(a)(3) because the alternate notification allowed for large quantity handlers of recalled universal waste pesticides under 40 CFR 165 has been repealed.).
None | 22a-449(c)-113(a)(2).
None | 22a-449(c)-113(a)(2)(B).
273.1(b) | 22a-449(c)-113(a)(2)(C).
273.8(b) | 22a-449(c)-113(a)(2)(D).
273.9 | 22a-449(c)-113(a)(2)(E).
273.13(c)(1) | 22a-449(c)-113(a)(2)(F).
273.13(d)(1) | 22a-449(c)-113(a)(2)(G).
273.13(d)(2) | 22a-449(c)-113(a)(2)(H).
273.14(d) | 22a-449(c)-113(a)(2)(I).
273.17(b) | 22a-449(c)-113(a)(2)(K).
273.18(h) | 22a-449(c)-113(a)(2)(M).
273.32(a)(1) | 22a-449(c)-113(a)(2)(N) (Also see 22a-449(c)-113(a)(1)).
273.33(c)(1) | 22a-449(c)-113(a)(2)(Q).
273.33(d)(1) | 22a-449(c)-113(a)(2)(R).
273.33(d)(2) | 22a-449(c)-113(a)(2)(S).
273.34(d) | 22a-449(c)-113(a)(2)(T).
273.37(b) | 22a-449(c)-113(a)(2)(V).
273.38(h) | 22a-449(c)-113(a)(2)(X).
273.60(a) | 22a-449(c)-113(a)(2)(AA) (partially broader in scope).
273.61(d) | 22a-449(c)-113(a)(2)(BB).
273.80(a) | 22a-449(c)-113(a)(2)(DD) (Also see 22a-449(c)-100(b)(1)(C).).
273.80(b) | 22a-449(c)-113(a)(2)(EE).
273.32(a)(3) | 22a-449(c)-113(a)(2)(FF).
None | 22a-449(c)-113(b)-(f) and 22a-449(c)-113(a)(3) (provisions regarding used electronics).
40 CFR part 279:
None | 22a-449(c)-119(a)(1).
279.10(b)(3) | 22a-449(c)-119(a)(1)(A).
279.82(b) and (c) | 22a-449(c)-119(a)(1)(B). (See 22a-449(c)-119(a)(2)(H) for associated revision to 40 CFR 279.12(b).).
279.1 | 22a-449(c)-119(a)(2)(A).
279.10(b)(1)(ii) | 22a-449(c)-119(a)(2)(B).
279.10(b)(2) | 22a-449(c)-119(a)(2)(C).
279.10(b)(2)(ii) | 22a-449(c)-119(a)(2)(D).
279.10(c)(1)(ii) | 22a-449(c)-119(a)(2)(E).
279.11 | 22a-449(c)-119(a)(2)(G).
279.12(b) | 22a-449(c)-119(a)(2)(H).
279.12 | 22a-449(c)-119(a)(2)(J).
279.21(b) | 22a-449(c)-119(a)(2)(L).
279.22 intro | 22a-449(c)-119(a)(2)(M).
279.22(d) | 22a-449(c)-119(a)(2)(N).
279.22(d)(3) | 22a-449(c)-119(a)(2)(O).
279.23 | 22a-449(c)-119(a)(2)(P).
279.24(a)(3) | 22a-449(c)-119(a)(2)(Q).
279.31(b)(2) | 22a-449(c)-119(a)(2)(R).
279.40(c) | 22a-449(c)-119(a)(2)(S).
279.42(a) | 22a-449(c)-119(a)(2)(U).
279.43(c)(2) | 22a-449(c)-119(a)(2)(V).
279.43(c)(3)(i) | 22a-449(c)-119(a)(2)(W).
279.43(c)(5) | 22a-449(c)-119(a)(2)(X).
279.44(a) | 22a-449(c)-119(a)(2)(Y).
279.44(b)(1) | 22a-449(c)-119(a)(2)(Z).
279.44(b)(2) | 22a-449(c)-119(a)(2)(AA).
279.44(c) | 22a-449(c)-119(a)(2)(BB).
279.45 intro | 22a-449(c)-119(a)(2)(CC).
279.45(a) | 22a-449(c)-119(a)(2)(DD), 1st bullet.
279.45(h) | 22a-449(c)-119(a)(2)(EE).
279.45(h)(3) | 22a-449(c)-119(a)(2)(FF).
279.51(a) | 22a-449(c)-119(a)(2)(GG).
279.52(a)(3) | 22a-449(c)-119(a)(2)(II).
279.52(b)(6)(iv)(B) | 22a-449(c)-119(a)(2)(MM).
279.53(a) | 22a-449(c)-119(a)(2)(OO).
279.53(b)(1) | 22a-449(c)-119(a)(2)(PP).
279.53(b)(2) | 22a-449(c)-119(a)(2)(QQ).
279.53(c) | 22a-449(c)-119(a)(2)(RR).
279.53 | 22a-449(c)-119(a)(2)(SS).
279.54 intro | 22a-449(c)-119(a)(2)(TT).
279.54(g) | 22a-449(c)-119(a)(2)(UU).
279.54(g)(3) | 22a-449(c)-119(a)(2)(VV).
279.54(h)(1)(i) | 22a-449(c)-119(a)(2)(WW).
279.54(h)(2)(ii) | 22a-449(c)-119(a)(2)(XX).
279.55(b) | 22a-449(c)-119(a)(2)(ZZ).
279.57(a)(2) | 22a-449(c)-119(a)(2)(AAA).
279.57(b) | 22a-449(c)-119(a)(2)(BBB).
279.61 | 22a-449(c)-119(a)(2)(FFF).
279.63(a) | 22a-449(c)-119(a)(2)(GGG).
279.63(b) | 22a-449(c)-119(a)(2)(HHH).
279.63(b)(1) | 22a-449(c)-119(a)(2)(III).
279.63(b)(2) | 22a-449(c)-119(a)(2)(JJJ).
279.63(c) | 22a-449(c)-119(a)(2)(KKK).
279.63(c)(2) | 22a-449(c)-119(a)(2)(LLL).
279.64 intro | 22a-449(c)-119(a)(2)(MMM).
279.64(g) | 22a-449(c)-119(a)(2)(OOO).
279.64(g)(3) | 22a-449(c)-119(a)(2)(PPP).
279.66(b) | 22a-449(c)-119(a)(2)(QQQ).
279.70(a) | 22a-449(c)-119(a)(2)(RRR).
279.70(b)(1) | 22a-449(c)-119(a)(2)(SSS).
279.71 | 22a-449(c)-119(a)(2)(TTT).
279.72(a) | 22a-449(c)-119(a)(2)(UUU).
279.72(b) | 22a-449(c)-119(a)(2)(VVV).
279.74(b)(4) | 22a-449(c)-119(a)(2)(WWW).
279.75(b) | 22a-449(c)-119(a)(2)(XXX).
279.81 | 22a-449(c)-119(a)(2)(YYY).
279.82(a) | 22a-449(c)-119(a)(2)(ZZZ).
None | 22a-449(c)-119(a)(3) (partially broader in scope).
None | 22a-449(c)-119(b).
None | 22a-449(c)-119(c).
None | 22a-449(c)-119(d).
None | 22a-449(c)-119(e) (partially broader in scope).
Notes:
1. Various State regulations are being authorized even though they are listed opposite “none” in the description of the corresponding Federal requirements, because the State regulations either are equivalent to the Federal regulations overall (e.g., add clarifying language) or because the State regulations add more stringent requirements which are becoming part of the federally enforceable RCRA program.
2. In addition to authorizing the particular State regulations listed above, the EPA is authorizing the various State regulations which generally incorporate Federal requirements by reference, namely R.C.S.A. 22a-449(c)-100(b)(1), 22a-449(c)-101(a)(1), 22a-449(c)-102(a)(1), 22a-449(c)-103(a)(1), 22a-449(c)-104(a)(1), 22a-449(c)-105(a)(1), 22a-449(c)-106(a)(1), 22a-449(c)-108(a)(1), 22a-449(c)-110(a)(1), 22a-449(c)-113(a)(1), and 22a-449(c)-119(a)(1). Many of these regulations were previously authorized insofar as they incorporated Federal requirements through July 1, 1989. The EPA now is authorizing all of these regulations in order to include in the authorized Connecticut program Federal requirements through January 1, 2001.
3. In addition to the regulations listed in the tables above and in footnotes 2 and 3 above, there are various state regulations to which the State has made minor editorial, error correction or similar changes, or to which the State has changed the regulation number (redesignated), as described in the footnotes to the State Regulatory Checklists (in the docket). The EPA also is authorizing these minor changes.
4. The authorization of new State regulations and regulation changes is in addition to the previous authorization of State regulations, which have not changed and remain part of the authorized program.

Following review of the Connecticut regulations, the EPA has determined that they are equivalent to, no less stringent than and consistent with the Federal program. The reasons for these determinations are set forth in the Administrative Docket, which is available for public review. Many of the State regulations incorporate Federal requirements by reference and are virtually identical. In some cases, the State regulations add clarifying language, and the EPA considers the clarifications to be equivalent to the Federal regulations. Finally, there are some State regulations which are more stringent than, broader in scope than, or different but equivalent to the Federal regulations, as described in the Program Description and summarized below.

F. How Are the State Rules Different From the Federal Rules?

The most significant differences between the authorized State rules and the Federal rules are summarized below. It should be noted that this summary does not describe every difference, or every detail regarding the differences that are described. Members of the regulated community are advised to read the complete regulations to ensure that they understand all of the requirements with which they will need to comply.

1. More Stringent Provisions

There are aspects of the Connecticut program which are more stringent than the Federal program. All of these more stringent requirements are becoming part of the federally enforceable RCRA program when authorized by the EPA, and must be complied with in addition to the State requirements which track the minimum Federal requirements. These more stringent requirements include the following, which are more fully described in the Program Description:

—Additional registration, reporting and other requirements for hazardous waste recyclers;

—Additional specifications regarding when to make hazardous waste determinations;

—Additional waste handling and other requirements for large quantity generators, small quantity generators and conditionally exempt small quantity generators. Note also that the State more stringently defines who may qualify to be small quantity generators or conditionally exempt small quantity generators (e.g., anyone accumulating more than 1,000 kg of hazardous waste is a large quantity generator in Connecticut vs. the federal accumulation limit is 6,000 kg);

—Additional requirements regarding manifests;

—Additional requirements regarding transporter temporary storage and personnel training;

—Additional requirements regarding management of lead acid batteries;

—Additional requirements regarding Boilers and Industrial Furnaces. Note, also, that Connecticut did not incorporate by reference 40 CFR 266.100(b), which replaced the standards applicable to BIFs in 40 CFR part 266, subpart H with the Maximum Achievable Control Technology requirements of 40 CFR part 63, subpart EEE, and thus Connecticut continues to require following the more stringent part 266, subpart H standards;

—Prohibition of the underground injection of hazardous waste;

—Additional groundwater monitoring requirements for interim status facilities;

—Additional requirements for permitted facilities;

—Additional requirements for used oil.

2. Broader-in-Scope Provisions

There also are aspects of the Connecticut program which are broader in scope than the Federal program. The State requirements which are broader in scope are not considered to be part of the federally enforceable RCRA program. However, they are fully enforceable under State law and must be complied with by sources within Connecticut. These broader-in-scope requirements include the following, which are more fully described in the Program Description:

—While the EPA generally does not regulate the recycling process itself, and exempts some recyclable materials from all RCRA regulation, the CTDEP Commissioner may impose additional requirements on persons engaging in recycling activities, including those recycling activities and recyclable materials that would otherwise be exempt from regulation. Such additional requirements will generally involve matters beyond the scope of EPA's regulations;

—Connecticut regulates certain recyclable materials that are exempt from RCRA regulation under the Federal regulations, including scrap metals meeting the characteristics of ignitability or reactivity, and commercial chemical products when accumulated speculatively;

—Connecticut requires hazardous waste transporters to obtain State permits and prohibits generators from offering hazardous wastes to any transporters who do not have permits;

—In addition to the federally enforceable RCRA permitting requirements, Conn. Gen. Stat. 22a-454 requires persons engaged in certain additional activities to obtain permits (e.g., facilities in the business of collecting, storing, or treating used oil);

—Connecticut law requires approval by the Connecticut Siting Council for hazardous waste facilities;

—Connecticut has established fees for hazardous waste permits and certain status changes;

—Connecticut expanded the definition of “used oil” to include oil that has not been used but is no longer suitable for the services for which it was manufactured due to the presence of impurities or a loss of original properties. This expanded definition results in the regulation under the State's used oil program of some additional oils which would not be regulated in the Federal used oil program. Also, some of these oils are not characteristically hazardous and thus would not be regulated as fully regulated hazardous wastes in the Federal RCRA program. (This expanded definition also allows for the regulation of some additional oils which are characteristically hazardous, under the used oil program rather than under the full RCRA program.)

3. Different but Equivalent Provisions

There also are some Connecticut regulations which differ from, but have been determined to be equivalent to, the Federal regulations. These authorized State regulations are becoming part of the federally enforceable RCRA program. These different but equivalent requirements include some requirements related to Corrective Action described in the next section, and also the following:

—In addition to batteries, pesticides, thermostats and mercury-containing lamps included in the Federal universal waste rule, Connecticut added used electronics (including CRTs) to the State's universal waste rule;

—Under Federal regulations, K174 wastes are not classified as hazardous wastes if certain requirements are met. Connecticut classifies K174 wastes as hazardous wastes but excludes these wastes from certain hazardous waste requirements provided certain requirements are met. While Connecticut's approach is different, the State's requirements for these wastes are equivalent to the Federal requirements;

—Connecticut modified the Federal provisions for rebutting the presumption that used oil has been mixed with F001 or F002 wastes in order to incorporate a long-standing EPA policy interpretation.

G. What Is the Connecticut Corrective Action Program That Is Being Authorized?

As part of this program update, the State is assuming responsibility for operating the Federal Corrective Action program. The authorized program covers all Treatment Storage and Disposal Facilities (TSDFs) subject to 40 CFR 264.101, which includes (i) active facilities which need permits to conduct ongoing treatment, storage or disposal, and (ii) interim status land disposal facilities which have been required to seek post closure permits under the EPA regulations.

The State regulations incorporate 40 CFR 264.101 by reference with certain more stringent changes and thus meet the Federal Corrective Action requirements with respect to all facilities which have been or will be permitted. In addition, the State has adopted regulations (R.C.S.A. 22a-449(c)-105(h) and 22a-449(c)-110(a)(2)(RR)) which will accelerate Corrective Action at the interim status land disposal facilities, prior to permitting. Under these regulations, all of the interim status land disposal facilities have been required to submit Environmental Condition Assessment Forms (ECAFs) to the CTDEP. Following review by the CTDEP of the ECAFs, the regulations require that Corrective Action occur either under the direct supervision of the CTDEP or under the direction of a Licensed Environmental Professional (LEP). Whether sites are remediated under the direction of the CTDEP or under the direction of a LEP, the regulations specify that there will be a review of the remediation by the CTDEP prior to any determination that remediation is complete. Sites will remain in interim status until there is such a completeness determination. The regulations further provide for opportunities for public comment for all sites both at the time of remedy selection and prior to any completeness determination.

The State's regulations also recognize that some sites have or will undertake Corrective Action pursuant to Connecticut General Statutes sections 22a-134 to 22a-134e (the “Transfer Act”). Corrective Action at such sites will be subject to the same requirements for CTDEP review (including review of LEP determinations) and the same public comment procedures as specified above.

The EPA believes that the State program is “equivalent” to the EPA Corrective Action program, for the reasons explained below, and further explained in the January 30, 2002, Memorandum entitled “Connecticut Corrective Action Regulations” by EPA Assistant Regional Counsel Jeffry Fowley (in the docket). The EPA regulations contemplate that Corrective Action will occur at sites subject to 40 CFR 264.101, pursuant to permits (or orders). Under the State program, permits similarly will be issued to active facilities and ultimately to some interim status facilities requiring long-term operation and maintenance (e.g., closed landfills). While other interim status facilities may satisfy their closure obligations at regulated units and achieve full remediation pursuant to the State regulations and the Transfer Act prior to being issued post closure permits, and thus may never need to be issued post closure permits, this involves an acceleration of effort which is environmentally beneficial. The EPA believes that the State's approach—of having the State agency review whether Corrective Action is complete, after Corrective Action has been carried out under the State regulations and the Transfer Act (sometimes under the direction of a LEP)—is equivalent to the EPA approach of carrying out Corrective Action under the direction of the EPA through a permit. Also, the opportunities for public comment required by the State regulations are equivalent to the public comment procedures applicable to EPA permits. Finally, the State has the needed enforcement authority to ensure that Corrective Action is promptly and fully carried out at sites subject to the State regulations and Transfer Act.

In determining whether remediation is complete, the State and EPA will utilize the Connecticut Remediation Standard Regulations (RSRs), R.C.S.A. 22a-133k-1 et seq., as their primary tool. The EPA believes that the State's approach meets the Federal (40 CFR 264.101) requirement for protection of human health and the environment for the reasons explained below, and further explained in the June 2, 2004, Memorandum entitled “CT Remediation Standard Regulations” by David Lim, CT State Coordinator, EPA RCRA Corrective Action Section (in the docket). The RSRs contain numeric standards for the remediation of soil and groundwater which generally are at least as protective as what would be achieved through site-specific assessments in EPA directed cleanups. For those rare situations where the general standards of the RSRs might not be sufficient, the RSRs contain “Omnibus” provisions (sections 22a-133k-2(i) and 22a-133k-3(i)) that allow the State to require additional measures. In the Memorandum of Agreement, the EPA and CTDEP have identified particular situations in which this Omnibus authority will be used at Corrective Action sites.

In addition to the sites subject to 40 CFR 264.101, there are other sites in Connecticut subject to Corrective Action under RCRA section 3008(h). These are former non-land disposal facilities (mostly container storage areas and tanks) which may no longer need permits. However, under the Federal Corrective Action program, as permit applicants initially, these facilities acquired site-wide Corrective Action obligations that must be met. The EPA has not established a mechanism for authorizing States to administer the Corrective Action program for such sites. However, in the Memorandum of Agreement (MOA), the EPA and CTDEP have agreed on a coordinated approach to avoid duplication of effort with respect to such sites. In particular, the EPA and CTDEP expect that many of these sites will undertake Corrective Action under the Transfer Act. The CTDEP has agreed in the MOA to utilize the same governmental review and public comment procedures with respect to these non-land disposal facilities as it follows for the land disposal facilities. As also specified in the MOA, the EPA will retain all of its statutory enforcement authority with respect to the non-land disposal facilities, just as it retains its statutory enforcement authority even with respect to the sites subject to the formal authorization. However, the EPA generally does not anticipate taking enforcement action against non-land disposal facilities which promptly and fully carry out Corrective Action pursuant to the Transfer Act, just as the EPA generally does not anticipate taking enforcement action against land disposal facilities which promptly and fully carry out Corrective Action pursuant to the State regulations described above and the Transfer Act. This agreement entered into by the EPA and CTDEP to avoid duplication of effort is further described in the MOA. While the statements in the MOA (and in this Federal Register notice) do not create any legal rights or defenses, the EPA hopes that the agreed upon coordination between the EPA and the CTDEP will foster site cleanups using a One-Cleanup approach.

It is the long-term goal of the EPA and CTDEP that the CTDEP will be the lead overseeing agency for all sites subject to Corrective Action in Connecticut. However, the EPA will continue to be the lead agency for certain sites for a variety of reasons that could include maximizing the Federal and State resources available to oversee the program, implementing special initiatives such as achieving environmental indicators or enhancing enforcement. Further, the EPA and CTDEP will at times provide technical and/or logistical support to one another.

H. What Is the Effect of This Authorization Decision?

At the Federal level, the effect of this authorization decision is that entities in Connecticut subject to RCRA will be able to comply with the authorized State requirements instead of the Federal requirements, with respect to the matters covered by the authorized State requirements, in order to comply with RCRA. However, there will continue to be a dual Federal RCRA program in Connecticut for the few HSWA rules (adopted since January 1, 2001) for which the state is not presently seeking authorization, and for any self-implementing HSWA statutory requirements for which the State has not adopted regulations (e.g., RCRA section 3005(j), 42 U.S.C. 6925(j)). RCRA was amended by the Hazardous and Solid Waste Amendments (“HSWA”) in 1984. Section 3006(g) of RCRA, 42 U.S.C. 6906(g), provides that when the EPA promulgates new regulatory requirements pursuant to HSWA, the EPA shall directly carry out these requirements in states authorized to administer the underlying base hazardous waste program, until the states are authorized to administer these new requirements. The EPA has established a few new regulatory requirements pursuant to HSWA which are not yet proposed to be authorized to be administered by Connecticut. Regulated entities will need to comply with these HSWA requirements as set out in the Federal regulations and statute in addition to authorized State program requirements. A complete list of HSWA requirements is set out in 40 CFR 271.1, Tables 1 and 2.

I. Who Handles Permits After the Authorization Takes Effect?

With respect to TSDF permitting, Connecticut will continue to issue permits for all the provisions for which it is authorized and will administer the permits it issues. The EPA will continue to administer any RCRA hazardous waste permits or portions of permits it has issued. The EPA also will continue to issue permits or portions of permits covering HSWA requirements for which Connecticut is not authorized.

J. How Will Today's Action Affect Indian Country in Connecticut?

Connecticut is not authorized to carry out its hazardous waste program in Indian country within the State (lands of the Mohegan Nation and the Mashantucket Pequot Tribal Nation). Today's action will have no effect on Indian country. The EPA will continue to implement and administer the RCRA program in these lands.

K. What Is Codification and Will EPA Codify Connecticut's Hazardous Waste Program as Authorized in This Rule?

The EPA is authorizing but not codifying the enumerated revisions to the Connecticut program. Codification is the process of placing the State's statutes and regulations that comprise the State's authorized hazardous waste program into the Code of Federal Regulations. The EPA does this by referencing the authorized State rules in 40 CFR part 272. The EPA reserves the amendment of 40 CFR part 272, subpart H for the codification of Connecticut's program until a later date.

L. Administrative Requirements

The EPA has examined the effects of the State authorization decision discussed above and reached the conclusions set out below.

The Office of Management and Budget has exempted this action from the requirements of Executive Order 12866 (58 FR 51735, October 4, 1993), and therefore this action is not subject to review by OMB.

This action authorizes State requirements for the purpose of RCRA 3006 and imposes no additional requirements beyond those imposed by State law. Accordingly, the EPA certifies that this action will not have a significant economic impact on a substantial number of small entities under the Regulatory Flexibility Act (5 U.S.C. 601 et seq.).

Because this action authorizes pre-existing requirements under State law and does not impose any additional enforceable duty beyond that required by State law, it does not contain any unfunded mandate, or significantly or uniquely affect small governments, as described in the Unfunded Mandates Reform Act of 1995 (Public Law 104-4). For the same reason, this action also does not significantly or uniquely affect the communities of tribal governments, as specified by Executive Order 13175 (65 FR 67249, November 9, 2000). This action will not have substantial direct effects on the States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA.

This action also is not subject to Executive Order 13045 (62 FR 19885, April 23, 1997), because it is not economically significant and it does not make decisions based on environmental health or safety risks. This rule is not subject to Executive Order 13211, “Actions Concerning Regulations That Significantly Affect Energy Supply, Distribution, or Use” (66 FR 28355 (May 22, 2001)) because it is not a significant regulatory action under Executive Order 12866.

Under RCRA 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272 note) do not apply.

As required by section 3 of Executive Order 12988 (61 FR 4729, February 7, 1996), in issuing this rule, EPA has taken the necessary steps to eliminate drafting errors and ambiguity, minimize potential litigation, and provide a clear legal standard for affected conduct. EPA also has complied with Executive Order 12630 (53 F.R. 8859, March 15, 1988) by examining the takings implications of the rule in accordance with the Attorney General's Supplemental Guidelines for the Evaluation of Risk and Avoidance of Unanticipated Takings issued under the Executive Order.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA is submitting a report containing this document and other required information to the U.S. Senate, the U.S. House of Representatives, and the Comptroller General of the United States prior to publication in the Federal Register. A major rule cannot take effect until 60 days after it is published in the Federal Register. This action is not a “major rule” as defined in 5 U.S.C. 804(2). This action will be effective immediately upon today's publication in the Federal Register.

This rule does not impose any information collection burden under the provisions of the Paperwork Reduction Act of 1995 (44 U.S.C. 3501 et seq.).

List of Subjects in 40 CFR Part 271

Environmental protection, Administrative practice and procedure, Confidential business information, Hazardous materials transportation, Hazardous waste, Indian lands, Intergovernmental relations, Penalties, Reporting and recordkeeping requirements.

Authority: RCRA sections 2002 and 3006, 42 U.S.C. 6912 and 6926.

Dated: September 4, 2004.
Robert W. Varney,
Regional Administrator, EPA New England.

[FR Doc. 04-21495 Filed 9-27-04; 8:45 am]

BILLING CODE 6560-50-P